DEPARTMENT OF ENERGY

Energy Information Administration

Agency Information Collection Activities: Submission for OMB Review; Comment Request

AGENCY: Energy Information Administration (EIA), Department of Energy (DOE).

ACTION: Agency Information Collection Activities: Submission for OMB Review; Comment Request.

SUMMARY: The EIA has submitted the energy information collections listed at the end of this notice to the Office of Management and Budget (OMB) for review and a three-year extension under section 3507(h)(1) of the Paperwork Reduction Act of 1995 (Pub. L. 104-13) (44 U.S.C. 3501 et seq.).

DATES: Comments must be filed within 30 days of publication of this notice. If you anticipate that you will be submitting comments but find it difficult to do so within that period, you should contact the OMB Desk Officer for DOE listed below as soon as possible.

ADDRESSES: Send comments to Bryon Allen, OMB Desk Officer for DOE, Office of Information and Regulatory Affairs, Office of Management and Budget. To ensure receipt of the comments by the due date, submission by FAX (202-395-7285) or e-mail (BAllen@omb.eop.gov) is recommended. The mailing address is 726 Jackson Place NW., Washington, DC 20503. The OMB DOE Desk Officer may be telephoned at (202) 395-3087. (A copy of your comments should also be provided to EIA's Statistics and Methods Group at the address below.)

FOR FURTHER INFORMATION CONTACT: Requests for additional information should be directed to Herbert Miller, Statistics and Methods Group, (EI-70), Forrestal Building, U.S. Department of Energy, Washington, DC 20585-0670. Mr. Miller may be contacted by telephone at (202) 426-1103, Fax at (202) 426-1081, or e-mail at Herbert.Miller@eia.doe.gov.

SUPPLEMENTARY INFORMATION: This section contains the following information about the energy information collections submitted to OMB for review: (1) The collection numbers and title; (2) the sponsor (i.e., the Department of Energy component); (3) the current OMB docket number (if applicable); (4) the type of request (i.e, new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. Forms EIA-800-804, 807, 810-814, 816, 817, 819M, and 820, “Petroleum Supply Reporting System”.

2. Energy Information Administration.

3. OMB Number 1905-0165.

4. One-year extension.

5. Mandatory.

6. EIA's Petroleum Supply Reporting System collects information needed for determining the supply and disposition of crude oil, petroleum products, and natural gas liquids. The data are published by EIA and are used by public and private analysts. Respondents are operators of petroleum refineries, blending plants, bulk terminals, crude oil and product pipelines, natural gas plant facilities, tankers, barges, and oil importers.

With respect to its currently approved PSRS survey forms, EIA is proposing a few changes that would be implemented in surveys for the 2003 reporting period. When soliciting public comments, EIA proposed additional changes for the 2003 reporting period as well as changes that would have been implemented beginning in 2004. EIA received a large number of comments. EIA needs additional time to adequately consider the comments and to ensure that changes in the information collections fully address concerns raised by the public. For that reason, EIA has decided to propose only a few changes for the 2003 reporting period and to request approval for collecting information only for 2003. During 2003, EIA will again solicit comments on the PSRS surveys and request OMB approval before conducting any surveys for the 2004 report period.

An additional reason for delaying the majority of the proposed changes is EIA's development of a new processing system for EIA's PSRS surveys. Significant changes to the surveys in 2003 could have severe negative impacts on timely development of the new processing system which in turn would interfere with EIA's on-going weekly, monthly, and annual information products on the petroleum industry.

The only PSRS survey changes proposed for 2003 are:

• EIA-807, Propane Telephone Report—This survey is currently conducted on a monthly basis for six months and on a weekly basis for the remaining six months. EIA is proposing to conduct this survey on a weekly basis throughout the year and to add an element on non-fuel propylene stocks.

• EIA-816, Monthly Natural Gas Liquids Report—EIA will add four items to collect natural gas information (i.e., receipts, inputs to other products, shipments, and plant fuel use).

7. Business or other for-profit; State, local or tribal government; Federal government.

8. 60,006 hours (2,240 respondents × 21.03 responses per year × 1.27 hours).

Statutory Authority: Section 3507(h)(1) of the Paperwork Reduction Act of 1995 (Pub. L. 104-13).

Issued in Washington, DC, November 12, 2002.
Jay Casselberry,
Forms Clearance Officer, Statistics and Methods Group, Energy Information Administration.

[FR Doc. 02-29162 Filed 11-15-02; 8:45 am]

BILLING CODE 6450-01-P